DEPARTMENT OF HOMELAND SECURITY

U.S. Customs and Border Protection

19 CFR Chapter I

Arrival Restrictions Applicable to Flights Carrying Persons Who Have Recently Traveled From or Were Otherwise Present Within Rwanda

AGENCY: U.S. Customs and Border Protection, Department of Homeland Security.

ACTION: Announcement of arrival restrictions.

SUMMARY: This document announces the decision of the Secretary of Homeland Security to direct all flights to the United States carrying persons who have recently traveled from, or were otherwise present within, Rwanda to arrive at one of the U.S. airports where the U.S. government is focusing public health resources to implement enhanced public health measures. For purposes of this document, a person has recently traveled from Rwanda if that person has departed from, or was otherwise present within, Rwanda within 21 days of the date of the person's entry or attempted entry into the United States. Also, for purposes of this document, crew and flights carrying only cargo (i.e., no passengers or non-crew) are excluded from the measures herein.

DATES: The arrival restrictions apply to flights departing after 11:59 p.m. Eastern Daylight Time on October 15, 2024. Arrival restrictions continue until cancelled or modified by the Secretary of Homeland Security and notice of such cancellation or modification is published in the Federal Register.

FOR FURTHER INFORMATION CONTACT: Stephanie Watson, Office of Field Operations, U.S. Customs and Border Protection at 202-255-7018.

SUPPLEMENTARY INFORMATION:

Background

Marburg Virus Disease (MVD), caused by the virus family Filoviridae, is a severe and often fatal disease. Disease transmission occurs via direct contact with bodily fluids (e.g., blood, mucus, vomit, urine) from people sick with MVD. The first known MVD cases were initially detected in 1967 after simultaneous outbreaks in Marburg and Frankfurt, Germany and in Belgrade, Serbia. Subsequently, outbreaks and sporadic cases have been reported in Angola, Ghana, Guinea, the Democratic Republic of the Congo, Kenya, South Africa (in a person with recent travel history to Zimbabwe), and Uganda.¹ Two concurrent but unconnected outbreaks of MVD occurred in Equatorial Guinea and Tanzania in 2023. This was both countries' first MVD outbreak, which resulted in multiple deaths. MVD can have substantial medical, public health, and economic consequences if it spreads to densely populated areas as there are currently no licensed treatments for MVD. As such, MVD may present a threat to U.S. health security given the potentially high public health impact that an MVD outbreak could cause and the interconnectedness of countries through global travel.

¹ World Health Organization, Marburg Haemorrhagic Fever, https://www.afro.who.int/health-topics/marburg-haemorrhagic-fever (last visited Oct. 7, 2024); and Centers for Disease Control and Prevention, History of Marburg Disease Outbreaks, https://www.cdc.gov/marburg/outbreaks/index.html (last visited Oct. 7, 2024).

On September 27, 2024, Rwanda reported cases of MVD in several provinces around the country, largely related to two hospitals. As of October 8, 2024, a total of 58 confirmed cases with 13 confirmed deaths have been reported from Rwanda. At present, most of the people infected are healthcare workers or their contacts. The Centers for Disease Control and Prevention (CDC) has issued a Travel Health Notice—Level 3, Reconsider Nonessential Travel.²

² CDC, Marburg in Rwanda Travel Health Notice—Level 3, Reconsider Nonessential Travel (Oct. 7, 2024), https://wwwnc.cdc.gov/travel/notices/level3/marburg-rwanda.

In order to assist in preventing or limiting the introduction and spread of this communicable disease into the United States, the Departments of Homeland Security and Health and Human Services (HHS), including CDC, and other agencies charged with protecting the homeland and the American public, are currently implementing enhanced public health measures at three U.S. airports that receive the largest number of travelers originating from Rwanda. To ensure that all travelers with recent presence in Rwanda arrive at one of these airports, DHS is directing all flights to the United States carrying such persons to arrive at the airports where the enhanced public health measures are being implemented. While DHS, in coordination with other applicable Federal agencies, anticipates working with operators of aircraft to identify potential travelers who have recently traveled from, or were otherwise present within, Rwanda prior to boarding, operators of aircraft will remain obligated to comply with the requirements of this document. Department of Defense (DoD) flights, via either military aircraft or contract flights, will be managed by DoD in accordance with HHS guidelines.

Notice of Arrival Restrictions Applicable to All Flights Carrying Persons Who Have Recently Traveled From or Were Otherwise Present Within Rwanda

Pursuant to 6 U.S.C. 112(a), 19 U.S.C. 1433(c), and 19 CFR 122.32, DHS has the authority to limit the locations at which all flights entering the United States from abroad may land. Under this authority and effective for flights departing after 11:59 p.m. Eastern Daylight Time on October 15, 2024, I hereby direct all operators of aircraft to ensure that all flights (with the exception of those operated or contracted by DoD) carrying persons who have recently traveled from, or were otherwise present within, Rwanda only land at one of the following airports:

• Chicago O'Hare International Airport (ORD), Illinois;

• John F. Kennedy International Airport (JFK), New York; and

• Washington-Dulles International Airport (IAD), Virginia.

This direction considers a person to have recently traveled from Rwanda if that person departed from, or was otherwise present within, Rwanda within 21 days of the date of the person's entry or attempted entry into the United States. Also, for purposes of this document, crew and flights carrying only cargo (i.e., no passengers or non-crew) are excluded from the applicable measures set forth in this notification. This direction is subject to any changes to the airport landing destination that may be required for aircraft and/or airspace safety as directed by the Federal Aviation Administration.

This list of designated airports may be modified by the Secretary of Homeland Security in consultation with the Secretary of Health and Human Services and the Secretary of Transportation. This list of designated airports may be modified by an updated publication in the Federal Register or by posting an advisory to follow at www.cbp.gov. The restrictions will remain in effect until superseded, modified, or revoked by publication in the Federal Register.

For purposes of this Federal Register document, “United States” means the territory of the several States, the District of Columbia, and Puerto Rico.

Alejandro N. Mayorkas,
Secretary, U.S. Department of Homeland Security.

[FR Doc. 2024-23956 Filed 10-15-24; 8:45 am]

BILLING CODE 9111-14-P